DEPARTMENT OF STATE

[Public Notice 9895]

Advisory Committee on International Economic Policy Notice of Cancelation of Previously Scheduled Open Meeting

The meeting of the Advisory Committee on International Economic Policy (ACIEP) originally scheduled from 2:00 until 5:00 p.m., on Tuesday, February 28 in Washington DC at the State Department, 320 21st St NW has been canceled. It is expected that the next ACIEP meeting will be held at the State Department in June.

The ACIEP serves the U.S. government in a solely advisory capacity, and provides advice concerning topics in international economic policy. Further questions can be directed to Melike Yetken (YetkenMA@State.gov) Designated Federal Officer for the ACIEP.

Melike Yetken,
Senior Advisor for Corporate Responsibility, Department of State.

[FR Doc. 2017-03649 Filed 2-23-17; 8:45 am]

BILLING CODE 4710-07-P